DEPARTMENT OF DEFENSE

Department of the Army

[Docket ID: USA-2024-HQ-0010]

Submission for OMB Review; Comment Request

AGENCY: Department of the Army, Department of Defense (DoD).

ACTION: 30-Day information collection notice.

SUMMARY: The DoD has submitted to the Office of Management and Budget (OMB) for clearance the following proposal for collection of information under the provisions of the Paperwork Reduction Act.

DATES: Consideration will be given to all comments received by February 10, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Exchange Official Personnel Folder—Privilege Card; Exchange Form 1100-016; OMB Control Number 0702-0129.

Type of Request: Extension.

Number of Respondents: 207.

Responses per Respondent: 1.

Annual Responses: 207.

Average Burden per Response: 15 minutes.

Annual Burden Hours: 52.

Needs and Uses: The information collection requirement is necessary to obtain authorization or continued authorization for patronage to exchange associate dependents for shopping privileges. Respondents are Exchange employee dependents who wish to become or remain eligible Exchange patrons. Exchange Form 1100-016 provides Exchange Human Resources information to verify and authorize patronage to these individuals. If approved, the individual will obtain a personalized, laminated dependent card for shopping privileges.

Affected Public: Individuals or households.

Frequency: On occasion.

Respondent's Obligation: Voluntary.

DOD Clearance Officer: Mr. Reginald Lucas.

Dated: January 3, 2025.
Aaron T. Siegel,
Alternate OSD Federal Register Liaison Officer, Department of Defense.

[FR Doc. 2025-00279 Filed 1-8-25; 8:45 am]

BILLING CODE 3710-08-P